DEPARTMENT OF TRANSPORTATION

National Highway Traffic Safety Administration

[Docket No. NHTSA-2022-0032]

Agency Information Collection Activities; Submission to the Office of Management and Budget for Review and Approval; Request for Comment; Strategies To Improve Drug Recognition Expert (DRE) Officers' Performance and Law Enforcement Agencies' DRE Programs

AGENCY: National Highway Traffic Safety Administration (NHTSA), Department of Transportation (DOT).

ACTION: Notice and request for comments on a request for approval of a new information collection.

SUMMARY: In compliance with the Paperwork Reduction Act of 1995 (PRA), this notice announces that the Information Collection Request (ICR) summarized below will be submitted to the Office of Management and Budget (OMB) for review and approval. The ICR describes the nature of the information collection and its expected burden. This is a new information collection to study ways to help improve DRE Officers' performance and Law Enforcement DRE programs. A Federal Register notice with a 60-day comment period soliciting comments on the following information collection was published on August 31, 2022, Docket No. NHTSSA-2022-0032. Three sources submitted comments. In general, the submitted comments reflected that they were in support of the project's efforts. No adjustments were needed to the project plan.

DATES: Comments must be submitted on or before August 2, 2023.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact: Jacqueline Milani, NPD220 (routing symbol), (202) 913-3925, National Highway Traffic Safety Administration, Enforcement and Justice Services Division, Room number: W44-206, U.S. Department of Transportation, 1200 New Jersey Avenue SE, Washington, DC 20590. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Strategies to Improve DRE Officers' Performance and Law Enforcement Agencies' DRE Programs.

OMB Control Number: New.

Form Number: 1662, 1663, 1680.

Type of Request: New request.

Type of Review Requested: Regular.

Length of Approval Requested: Three years from date of approval.

Summary of the Collection of Information:

• Application information will be collected to enroll Law Enforcement Agencies with DRE programs. The application will include fields for the agency name, address, point of contact name, email address, and phone number. It will request information about existing DRE processes and procedures, tools and strategies used, and how the agency plans to implement new or enhance existing processes and procedures.

• Selected agencies will be required to submit via email, monthly reports documenting activities conducted in the reporting month and planned for the next month. The monthly reports will also include information on equipment/technology received as of the date of the report.

• Quarterly reports will be required and will be collected through telephone conversations between the selected agencies and the support contractor. These calls will serve to discuss what has occurred within the past quarter in relation to the project, such as how the tools and technologies have been implemented, any challenges faced and how they were or will be addressed, any successes to date, and lessons learned.

Description of the Need for the Information and Proposed Use of the Information: NHTSA was established by the Highway Safety Act of 1970 (Pub. L. 91-605, section 202(a), 84 Stat. 1713, 1739-40). Its mission is to reduce the number of deaths, injuries, and economic losses resulting from motor vehicle crashes on our nation's highways. To further this mission, NHTSA conducts research on driver behavior and traffic safety to develop efficient and effective means of bringing about safety improvements. Impaired driving resulting from cannabis or other drug use poses challenges for our nation's law enforcement officers, prosecutors, toxicologists, highway safety offices, and others. As the number of States legalizing marijuana continues to increase, the need for effective strategies to address the growing concerns about impaired driving is imperative. Law enforcement agencies are eager for strategies to improve their efficiency, consistency, and completeness of their DRE programs. This program will play a critical role in a State's efforts to reduce impaired driving. This project will allow NHTSA to provide participating law enforcement agencies with information and resources to improve their DRE officers' performance and enforcement programs overall. This collection of information is necessary to allow interested enforcement agencies with DRE programs to submit an application that shares information about their current DRE program. This is a demonstration project. Agency applications will be collected and used as baseline data. This information will be compiled and used to better understand process outcomes that other law enforcement agencies could use to replicate and improve their programs.

60-Day Notice: A Federal Register notice with a 60-day comment period soliciting public comments on the following information collection was published on August 31, 2022 (87 FR 53548). Comments were received from three sources. Each comment received shared that the submitter was in support of the initiative. There are no responses to the comments and no changes made to the project's workplan, final deliverables, and subsequently no changes to the information collection plan. NHTSA acknowledges the support submitted by the three sources as follows:

Comment 1: Objectivity will be enhanced in an effort to eliminate human error, methods of automating and standardizing the DRE tests such as through the use of standardized instructions, automating the tests with technology and other tools, and improving data capture throughout the tests to generate a meaningful body of evidence.

Comment 2: The results of the study will have practical utility.

Comment 3: Additional training proposed by the NHTSA will assist officers in detecting impaired drivers and interacting with them.

Affected Public: Selected law enforcement agencies with DRE programs willing to participate.

Estimated Number of Respondents: Subject to available funds and available time to collect approximately 3-years of participation data.

Frequency: 1 application to share information about their Law Enforcement Agency, monthly reports to share information on process measures on how the project is going.

Number of Responses: Approximately 15 agencies will apply. Each will submit 1 application, 36 monthly reports and 12 quarterly calls.

Estimated Total Annual Burden Hours: Total overall Burden Hours will be approximately 440 hours.

Estimated Total Annual Burden Cost: The total estimated burden hours for each participating agency is 88 hours. Assuming 15 agencies respond and are selected, the total estimated burden hours for all agencies is 1,320 hours. The estimated total burden hours for any agency that submits an application but is not selected is 1 hour. This is a 36-month effort, assuming agencies are selected by March 2023 and provide monthly reports through March 2026. The average annual burden for all agencies is 440 hours or 29.33 hour per respondent.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29.

Issued in Washington, DC.
Nanda Narayanan Srinivasan,
Associate Administrator, Research and Program Development.

[FR Doc. 2023-13856 Filed 6-30-23; 8:45 am]

BILLING CODE 4910-59-P